DEPARTMENT OF STATE

[Public Notice 8500]

Culturally Significant Objects Imported for Exhibition Determinations: “Toulouse-Lautrec and La Vie Moderne: Paris 1880-1910”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the objects to be included in the exhibition “Toulouse-Lautrec and La Vie Moderne: Paris 1880-1910,” imported from abroad for temporary exhibition within the United States, are of cultural significance. The objects are imported pursuant to loan agreements with the foreign owners or custodians. I also determine that the exhibition or display of the exhibit objects at the Nevada Museum of Art, Reno, Nevada, from on or about November 2, 2013, until on or about January 19, 2014, the Columbus Museum of Art, Columbus, Ohio, from on or about February 8, 2014, until on or about May 18, 2014, the Foothills Art Center, Golden, Colorado, from on or about June 7, 2014, until on or about August 17, 2014, the Society of the Four Arts, Palm Beach, Florida, from on or about December 5, 2014, until on or about January 11, 2015, the Crocker Art Museum, Sacramento, California, from on or about January 31, 2015, until on or about April 26, 2015, the Louisiana State University Museum of Art, Baton Rouge, Louisiana, from on or about September 5, 2015, until on or about November 15, 2015, and at possible additional exhibitions or venues yet to be determined, is in the national interest. I have ordered that Public Notice of these Determinations be published in the Federal Register.

FOR FURTHER INFORMATION CONTACT: For further information, including a list of the exhibit objects, contact Paul W. Manning, Attorney-Adviser, Office of the Legal Adviser, U.S. Department of State (telephone: 202-632-6469). The mailing address is U.S. Department of State, SA-5, L/PD, Fifth Floor (Suite 5H03), Washington, DC 20522-0505.

Dated: October 4, 2013.
Evan M. Ryan,
Assistant Secretary, Bureau of Educational and Cultural Affairs, Department of State.

[FR Doc. 2013-24472 Filed 10-15-13; 8:45 am]

BILLING CODE 4710-05-P